DEPARTMENT OF COMMERCE

National Oceanic and Atmospheric Administration

[I.D. 032906D]

Environmental Impact Statement Regarding the Application for a Permit for Incidental Take of Protected Resources in Inshore Fisheries Managed by the State of Hawaii

AGENCY: National Marine Fisheries Service (NMFS), National Oceanic and Atmospheric Administration (NOAA), Commerce.

ACTION: Notice of cancellation of intent to prepare an Environmental Impact Statement (EIS).

SUMMARY: The National Marine Fisheries Service (NMFS) announces the cancellation of its intent to prepare an EIS to assess the potential impacts on the human environment of sea turtle and monk seal interactions with fishing activities in Hawaii State waters associated with an application for an individual Incidental Take Permit (ITP) submitted March 21, 2002, and subsequently revised and resubmitted in May 2005 by the State of Hawaii Department of Land and Natural Resources.

FOR FURTHER INFORMATION CONTACT: Jayne LeFors, NMFS, Pacific Islands Region; telephone: (808) 944-2277; fax: (808) 944-2142; e-mail: jayne.lefors@noaa.gov.

SUPPLEMENTARY INFORMATION: NMFS provided public notice through an earlier Federal Register notice of availability (67 FR 16367, April 5, 2002) of a State of Hawaii application for an individual ITP for listed sea turtles in inshore marine fisheries in the Hawaiian Islands managed by the State of Hawaii. NMFS is responsible for analyzing these permit applications and authorizing those which meet legal requirements under the Endangered Species Act (ESA). On May 9, 2002, NMFS published a notice of intent to prepare an EIS in accordance with the National Environmental Policy Act (NEPA) in connection with agency action on the ITP application. On September 22, 2003 (68 FR 55023), NMFS published a notice of intent to hold public scoping meetings on the EIS. However, September 19, 2005, the State of Hawaii informed NMFS that they wished to withdraw and revise their application for an ITP. At that time the state expressed concerns that management measures identified in the ITP for monk seals needed further community input and agency consultation prior to issuance of a final ITP . NMFS will continue to work with the state as they revise their application. The timeline for completion of the revised application is uncertain and elements of the conservation plan may change. NMFS will publish an updated notice on the appropriate NEPA analysis once a revised application is received.

As federal action (i.e., issuance of an ITP) is no longer proposed for the application received March 21, 2002, and amended in May 2005, an EIS is not needed and the notice of intent to prepare an EIS is cancelled.

Dated: March 29, 2006.
Jim Lecky,
Director, Office of Protected Resources, National Marine Fisheries Service.

[FR Doc. E6-4842 Filed 4-3-06; 8:45 am]

BILLING CODE 3510-22-S